DEPARTMENT OF HEALTH AND HUMAN SERVICES

National Institutes of Health

National Heart, Lung, and Blood Institute; Amended Notice of Meeting

Notice is hereby given of a change in the meeting of the National Heart, Lung, and Blood Institute Special Emphasis Panel, November 9, 2006, 8 a.m. to November 10, 2006, 5 p.m. Bethesda Marriott, 5151 Pooks Hill Road, Bethesda, MD 20814 which was published in the Federal Register on September 14, 2006, FR 06-7626.

This meeting is being cancelled. The meeting is closed to the public.

Dated: October 20, 2006.
Anna Snouffer,
Acting Director, Office of Federal Advisory Committee Policy.

[FR Doc. 06-8924 Filed 10-26-06; 8:45 am]

BILLING CODE 4140-01-M